DEPARTMENT OF STATE

[Public Notice 4182]

The Office of Citizen Exchanges of the Bureau of Educational and Cultural Affairs Request for Grant Proposals (RFGPs): Eurasia Professional Exchanges and Training Program for Armenia, Azerbaijan, Belarus, Georgia, Kazakhstan, the Kyrgyz Republic, Moldova, Russia, Tajikistan, Turkmenistan, Ukraine and Uzbekistan

SUMMARY: The Office of Citizen Exchanges of the Bureau of Educational and Cultural Affairs (the Bureau) invites applicants to submit proposals that encourage the growth of democratic institutions in Armenia, Azerbaijan, Belarus, Georgia, Kazakhstan, Kyrgyz Republic, Moldova, Russia, Tajikistan, Turkmenistan, Ukraine, and Uzbekistan. U.S.-based public and private non-profit organizations meeting the provisions described in Internal Revenue code section 26 U.S.C. 501(c)(3) may submit proposals that support international projects in the United States and overseas involving current or potential leaders.

Interested applicants should read the complete Federal Register announcement before addressing inquiries to the Office of Citizen Exchanges or submitting proposals. Once the RFGP deadline has passed, Office of Citizen Exchanges staff may not discuss this competition with applicants until after the Bureau program and project review process has been completed.

Announcement Name and Number: All correspondence with the Bureau concerning this RFGP should reference the “Eurasia Professional Exchanges and Training Program” and reference number: ECA/PE/C/EUR-03-22. Please refer to title and number in all correspondence or telephone calls to the Office of Citizen Exchanges.

FOR FURTHER INFORMATION CONTACT: Interested organizations/institutions may contact the Office of Citizen Exchanges, Room 220, SA-44, U.S. Department of State, 301 4th Street, SW., Washington, DC 20547, Attention: Eurasia Professional Exchanges and Training Program, telephone number 202/205-3003, fax number 202/619-4350, or KTurner@pd.state.gov to request a Solicitation Package. The Solicitation Package contains detailed award criteria, required application forms, specific budget instructions, and standard guidelines for proposal preparation.

For specific inquiries, please contact Bureau program officers by phone: Henry Scott (202) 619-5327 (hscott@pd.state.gov); Michael George (202) 619-5330 (mdgeorge@pd.state.gov); Brent Beemer (202) 401-6887 (bbeemer@pd.state.gov). Please specify Henry Scott, Michael George or Brent Beemer on all other inquiries and correspondence.

To Download a Solicitation Package Via Internet

The entire Solicitation Package may be downloaded from the Bureau's website at http://exchanges.state.gov/education/RFGPs. Please read all information before downloading the package.

General Program Guidelines

Applicants should identify the local organizations and individuals in the counterpart country with whom they are proposing to collaborate and describe in detail previous cooperative programming and/or contacts. Specific information about the counterpart organizations' activities and accomplishments should be included in the section on Institutional Capacity. Proposals should contain letters of support tailored to the project being proposed from foreign-country partner organizations.

Exchanges and training programs supported by institutional grants from the Bureau should operate at two levels: They should enhance institutional partnerships, and they should offer practical information and experience to individuals and groups to assist them with their professional responsibilities. Strong proposals usually have the following characteristics:

• A proven track record of working in the proposed issue area and country;

• Experienced staff with language facility and a commitment by the staff to monitor projects locally to ensure implementation;

• A clear, convincing plan showing how permanent results will be accomplished as a result of the activity funded by the grant; and

• A follow-on plan that includes activities beyond the conclusion and scope of the Bureau grant.

Proposal narratives should clearly demonstrate an organization's commitment to consult closely with the Public Affairs Section and when required other officers at the U.S. Embassy. Proposal narratives must confirm that all materials developed for the project will acknowledge Bureau funding for the program as well as a commitment to invite representatives of the Embassy and/or Consulate to participate in various program sessions/site visits. Please note that this will be a formal requirement in all final grant awards.

Suggested Program Designs

Bureau-supported exchanges may include internships; study tours; short-term, non-technical experiential learning, extended and intensive workshops and seminars taking place in the United States or overseas. Examples of program activities include:

1. A U.S.-based program that includes: orientation to program purposes and to U.S. society; study tour/site visits; professional internships/placements; interaction and dialogue; hands-on training; professional development; and action plan development. Proposals that include U.S.-based training will receive the highest priority.

2. Capacity-building/training-of-trainer (TOT) workshops to help participants to identify priorities, create work plans, strengthen professional and volunteer skills, share their experience with committed people within each country, and become active in a practical and valuable way.

3. Site visits by U.S. facilitators/experts to monitor projects in the region and to provide additional training and consultations as needed.

Activities ineligible for support: The Office does not support proposals limited to conferences or seminars (i.e.), one to fourteen-day programs with plenary sessions, main speakers, panels, and a passive audience). It will support conferences only when they are a small part of a larger project in duration that is receiving Bureau funding from this competition. The Office will only support workshops, seminars and training sessions that are an integral part of a larger project. No funding is available exclusively to send U.S. citizens to conferences or conference-type seminars overseas; nor is funding available for bringing foreign nationals to conferences or to routine professional association meetings in the United States.

Selection of Participants

All grant proposals should clearly describe the type of persons who will participate in the program as well as the participant selection process. For programs that include U.S. internships, applicants should submit letters of support from host institutions. In the selection of foreign participants, the Bureau and U.S. Embassies retain the right to review all participant nominations and to accept or refuse participants recommended by grantee institutions. When American participants are selected, grantee institutions must provide their names and brief biographical data to the Office of Citizen Exchanges. Priority in two-way exchange proposals will be given to foreign participants who have not previously traveled to the United States. (See section below on requirements for maintenance of and provision to the Bureau of data on participants and program activities.)

Programs must comply with J-1 visa regulations. Please refer to Solicitation Package for further information.

Evaluation

In general, evaluation should occur throughout the project. The evaluation should incorporate an assessment of the program from a variety of perspectives. Specifically, project assessment efforts will focus on: (a) Determining if objectives are being met or have been met, (b) identifying any unmet needs, and (c) assessing if the project has effectively identified resources, advocates, and financial support for the sustainability of future projects. Informal evaluation through discussions and other sources of feedback will be carried out throughout the duration of the project. Formal evaluation must be conducted at the end of each component, should measure the impact of the activities and should obtain participants' feedback on the program content and administration. A detailed evaluation will be conducted at the conclusion of the project and a report will be submitted to the Department of State Bureau of Educational and Cultural Affairs. When possible, the evaluation should be conducted by an independent evaluator.

Program Data Requirements

Organizations awarded grants will be required to maintain specific data on program participants and activities in an electronically accessible database format that can be shared with the Bureau as required. As a minimum, the data must include the following:

(1) Name, address, contact information and biographic sketch of all persons who travel internationally on funds provided by the grant or who benefit from the grant funding but do not travel.

(2) Itineraries of international and domestic travel, providing dates of travel and cities in which any exchange experiences take place.

Adherence to All Regulations Governing the J Visa

The Bureau of Educational and Cultural Affairs is placing renewed emphasis on the secure and proper administration of Exchange Visitor (J visa) Programs and adherence by grantees and sponsors to all regulations governing the J visa. Therefore, proposals should demonstrate the applicant's capacity to meet all requirements governing the administration of Exchange Visitor Programs as set forth in 22 CFR 6Z, including the oversight of Responsible Officers and Alternate Responsible Officers, screening and selection of program participants, provision of pre-arrival information and orientation to participants, monitoring of participants, proper maintenance and security of forms, record-keeping, reporting and other requirements. ECA will be responsible for issuing DS-2019 forms to participants in this program.

A copy of the complete regulations governing the administration of Exchange Visitor (J) programs is available at http://exchanges.state.gov or from:

United States Department of State, Office of Exchange Coordination and Designation, ECA/EC/ECD—SA-44, Room 734, 301 4th Street, SW., Washington, DC 20547, Telephone: (202) 401-9810, FAX: (202) 401-9809.

Program Information

Overview

The Bureau welcomes proposals that respond directly to the themes and countries listed below. Given budgetary considerations, projects in countries and for themes other than those listed will not be eligible for consideration and will be ruled technically ineligible. The themes listed below are important to the Office of Citizen Exchanges, but no guarantee is made or implied that grants will be awarded in all categories.

For this competition, single country projects only are eligible for support. In order to prevent duplication of effort, proposals should reflect an understanding of the work of international agencies so that projects complement—not duplicate—other assistance programs.

Two-way exchanges will be given the highest priority. Applicants should carefully review the following recommendations for proposals in Eurasian countries.

To be eligible for a grant award under this competition, the proposed professional training and exchange projects must address one of the following specific themes for single country projects. Multi-country projects are not eligible for this competition.

Media Training (Armenia or Kazakhstan or Russia or Uzbekistan)

Prevention of Trafficking in Persons (Armenia or Azerbaijan or Belarus or Georgia or Kyrgyz Republic or Tajikistan)

Tolerance (Georgia or Russia)

Intellectual Property Rights (Russia)

Professional Association Building for Political Scientists and Economists (Ukraine)

Tourism and Economic Development (Moldova)

Religion in a Democracy (Kazakhstan)

Business Development (Turkmenistan)

Community and Local Government Relations (Armenia)

Public Health Awareness (Armenia)

Training in NGO Law Making (Turkmenistan)

Library Exchange (Kyrgyz Republic)

Professional Training for Media Professionals

Single Country Projects for Armenia or Kazakhstan or Russia or Uzbekistan

The Bureau is interested in proposals from applicants who possess a thorough understanding of the current state and needs of the media in Armenia, Kazakhstan, Russia or Uzbekistan. Proposals should include in-country and U.S.-based training activities for journalists and/or media outlet managers. When proposing U.S.-based training, the program should include relevant meetings with media experts and a hands-on internship training component at an appropriate media outlet. For internships, letters of support from media outlets willing to host participants should be provided, and the applicant should describe why these media establishments have been chosen. Internships may be developed for individuals or small groups consisting of not more than three persons. If the small group format is used, the internships must have a practical program component with hands-on experience. If participants who do not speak English are nominated for the U.S.-based program, the applicant must explain how the interpreting needs of those participants would be met. In-country activities may include workshops and seminars. These may be led by the participants themselves, or by U.S. trainers, or a combination of both. In addition to group events, training activities should take place throughout the grant period. Applicants should describe in detail these activities and how they will create and sustain long-term relationships between international participants and their home media outlets and their U.S. hosts. Such activities may include virtual mentoring and e-mail consultations between U.S.-based trainers/hosts and participants. Training should not duplicate the work done under recent or existing USG-sponsored programs, but should complement those efforts. Applicants should expect to work closely with the Public Affairs Sections of the U.S. embassies to coordinate all activities, including participant selection.

Preference will be given to projects that do not exceed $150,000.

For Armenia

Media training for Armenia should include a two-way exchange and offer hands-on internships in the U.S. that emphasize a commitment to objective reporting. Applicants should propose to include the Association of Investigative Journalists of Armenia (AIJA) (http://www.hetq.am/en/index.html), in program activities.

AIJA is a non-governmental organization whose goal is to provide assistance in the development of investigative journalism and freedom of speech in Armenia. Applicants should explain in detail activities and components that will create and sustain long-term relationships between Armenian participants and their home media outlets and their U.S. hosts.

For Kazakhstan or Uzbekistan

Note: Requirements for proposals for Kazakhstan and Uzbekistan are the same, but applicants must submit single-country proposals only.

Media training projects for Kazakhstan or Uzbekistan should include a two-way exchange and should offer hands-on internships in the U.S. that emphasize methods of income generation, better fiscal management practices, and a commitment to objective reporting. Programs designed for Kazakhstan or Uzbekistan should also emphasize the role of media in reporting on minority and conflict issues. Applicants should explain in detail activities and components that will create and sustain long-term relationships between Kazakh or Uzbek participants and their home media outlets and their U.S. hosts.

For Russia

The program should address one or more of the four issues identified by the Russian-American Media Entrepreneurship Dialogue. (For more information about this, please visit the site <http://www.whitehouse.gov/news/releases/2002/05/20020524-14.html>). Participants on the U.S.-based training program should be outlet owners. Recruitment efforts should be focused on the cities outside of Moscow and St. Petersburg. Programs should complement media training projects that are or were supported by USAID and other USG funders. Applicants should explain in detail activities and components that will create and sustain long-term relationships between participating Russian and American media outlets.

Prevention of Trafficking in Persons

Single Country Projects for Armenia or Azerbaijan or Belarus or Georgia or Kyrgyz Republic or Tajikistan

Human trafficking is a significant problem in many countries in Eurasia. In June 2002 the State Department released its second annual Trafficking in Persons Report to Congress, on the status of severe forms of trafficking in persons worldwide. Through the annual report, the United States seeks to bring international attention to the practice of trafficking in persons worldwide. (Please see http://www.state.gov/g/tip/rls/tiprpt/2002/.)

Many governments in Eurasia are currently included in the two lowest tiers of the State Department report. The need to educate and inform communities, lawmakers and media representatives has become imperative to prevent more women and girls from falling victim to trafficking in Eurasia.

The Bureau seeks proposals that provide training and capacity building to individuals and communities in Armenia, Azerbaijan, Belarus, Georgia, the Kyrgyz Republic or Tajikistan to help combat trafficking in persons. Programs should be single county projects and should not duplicate the efforts of other U.S. or European organizations working on the issue. Priority will be given to programs that propose to reach risk groups where anti-trafficking initiatives have been limited or nonexistent. Applicants should expect to work closely with the Public Affairs Sections of the U.S. Embassies in the target countries to coordinate all activities, including participant selection and proposed training modules.

Areas of focus:

1. Training and exchanges of media representatives Armenia or Azerbaijan or Belarus or Georgia or Tajikistan

The Bureau seeks proposals that will provide hands-on training to journalists to ensure widespread, accurate media coverage on the issue of trafficking, to raise media professionals' awareness of the issue, and to train journalists to cover the issue of trafficking without stigmatizing victims. Workshops and on-site consultations at media outlets in the target country are encouraged. U.S.-based training should also be proposed when appropriate. Participants may include media managers, editors and journalists. Successful proposals will include plans for interactive training, as well as the development of action plans, publications, web-based information and/or other results-oriented products that media representatives may access. In-country workshops should include NGO representatives working on trafficking issues.

2. Training and exchanges of parliamentarians and other government officials Armenia or Azerbaijan or Georgia or Kyrgyz Republic or Tajikistan

The Bureau welcomes proposals that will encourage members of parliament and other government officials to take an active stand against trafficking in their countries. Proposals should focus on how government should enforce and/or improve laws against trafficking. Proposals should also address how training will encourage cooperative and complementary efforts to prevent and combat trafficking among government, NGO and media communities. Government officials should be exposed to successful public awareness campaigns in other Eurasian countries and should be encouraged to work with NGOs on adaptable models. Two-way exchanges and follow-up, in-country workshops are strongly encouraged. Participants in U.S.-based programs may include NGO leaders, though the majority of participants should be government officials. NGO leaders and media representatives should be included in all in-country workshops, however. The Bureau is interested in results-oriented proposals that include action plans, publications and other work products that will serve to educate government officials regarding trafficking.

Funding for the above initiatives should not be used to establish job training centers and shelters or to provide victim assistance, but should focus on training and education.

The Bureau anticipates awarding one proposal for each country. Preference will be given to projects that do not exceed $150,000.

Tolerance

Single Country Projects for Georgia or Russia

Note: Requirements for proposals for Georgia and Russia are the same, but applicants must submit a single-country proposal.

The Bureau welcomes proposals that will focus on promoting constructive dialogue and the reduction of stereotyping, violence and hatred among diverse groups. Projects may be designed and implemented through media outlets, educational institutions, NGOs or other partners. Projects should build a valued working relationship between U.S. and overseas professionals and should develop, test, and result in a training program that can continue after grant support concludes. Proposals should focus on redefining inter-communal conflict in specific situations and facilitating dialogue—among teachers, professionals, businesspersons, journalists, community activists—in order to promote better understanding among parties in conflict. Programming should also introduce the evolution of U.S. laws designed to protect minority rights and promote tolerance. Travel in both directions, including a hands-on, U.S.-based program with a train the trainer component, should be proposed. Continuous communication, mentoring, and consultations between overseas participants and trainers/mentors, should be described in detail and conducted throughout the life of the grant.

Preference will be given to projects that do not exceed $150,000.

Intellectual Property Rights

Single Country Projects for Russia

Proposals for this project should focus on intellectual property rights (IPR), with a special concentration on copyright protection for films/videos, music recordings, computer software and similar products subject to piracy. Participants should include: (1) Government officials responsible both for drafting and enforcing laws and regulations; (2) lawyers, judges and distributors or licensing organizations involved with presenting and deciding infringement cases; and (3) press and media, to engage them in raising public consciousness about IPR protection. The first phase of the project would bring U.S. project staff to Russia in order to become familiar with the particular legal regime and market environment in Russia and to meet with the principal players in the copyright enforcement arena. The second phase of the project would bring 10-12 copyright lawyers and lawmakers to the U.S. so that they could meet with their colleagues, copyright protection agencies, video and music producers, and other professionals. A third phase should include workshops in Russia that would reach out to a wider audience.

Preference will be given to projects that do not exceed $150,000.

Professional Association Building for Political Scientists and Economists

Single Country Projects for Ukraine

In Ukraine, there are few cohesive efforts to link political scientists—practitioners, educators, and students—into a network that can improve communication and interaction both within Ukraine and with the outside world. The situation is the same in the field of economics.

The Bureau is seeking proposals that will provide for the creation of two professional associations: one for political scientists and one for economists. By cooperating together within the framework of a professional association, political scientists and economists will be better able to coordinate research and analysis activities in Ukraine. Professional associations would also be able to positively impact public policy creation in Ukraine. Further, these professional associations will provide their members with the opportunity to make a positive impact on how these subjects are taught and how research is conducted at Ukrainian institutions of higher learning.

Proposals should provide for the establishment of a professional association for Ukrainian political scientists and a professional association for Ukrainian economists. Activities should provide access to and linkages between similar professional associations in the United States and Europe, and with departments of political science and economics at American institutions of higher learning. Ukrainian participants should be shown how similar American professional associations conduct research and analysis, and how they foster discussion that affect public policy formation in the United States. Applicants should provide for the establishment and maintenance of a website for each association. The websites will facilitate communication among and serve the needs of faculty, students, researchers, and practitioners.

Both in-country and U.S.-based training activities should be proposed. Continuous communication, mentoring, and consultations between overseas participants and trainers/mentors, should be described in detail and conducted throughout the life of the grant.

Preference will be given to projects that do not exceed $200,000.

Tourism and Economic Development

Single Country Projects for Moldova

The Bureau is seeking proposals that will allow U.S. communities to share tourism and economic development strategies with Moldovan local governments, NGOs and business leaders from small cities. Proposals should provide an opportunity for local government and business leaders from Moldova to examine the experience of U.S. towns and cities, where preservation of cultural heritage and historic sites has been combined with tourism infrastructure development. Strategies that have led to reversing economic decline (i.e. aggressive marketing and the incorporation of heritage tourism into local economic development plans) should be examined. Multiple trips in both directions, including a hands-on, U.S.-based internship or study tour, should be proposed. Continuous communication, mentoring, and consultations between Moldovan participants and trainers/mentors, should be described in detail and conducted throughout the life of the grant.

Preference will be given to projects that do not exceed $150,000.

Religion In a Democracy

Single Country Projects for Kazakhstan

The Bureau welcomes proposals that will build a better understanding of the role religion plays in Kazakhstan and the United States, with emphasis on how Islamic groups and institutions participate in a democratic, secular society in which the separation of church and state and tolerance are the guiding principles. Participants may be religious as well as lay leaders. Activities should illustrate how American religious institutions and individuals (including Islamic) interact with governmental bodies and other public and private institutions, contribute to society at large, and provide spiritual and ethical guidance. Balanced, two-way exchanges will be given priority.

Preference will be given to projects that do not exceed $150,000.

Business Development

Single Country Projects for Turkmenistan

The Bureau welcomes proposals that will foster the development of small and medium-sized businesses in Turkmenistan. Topics to be addressed may cover management, marketing, employee relations, advertising, public relations, business ethics, negotiation skills, customer service, and dealing with a diverse workplace. Programs may include a variety of training opportunities such as U.S.-based internships, hands-on workshops and case studies. Turkmen participants should be linked with U.S. counterparts with similar work responsibilities, in order to ensure ongoing professional interaction.

Preference will be given to projects that do not exceed $150,000.

Community and Local Government Relations

Single Country Projects for Armenia

The Bureau seeks projects that will facilitate collaboration between NGOs and local government bodies. Proposals should include partnerships between U.S. and Armenian NGOs and government officials in order to share experiences on how to improve government responsiveness and effectiveness at the local level. Project activities should focus on how municipal teams, including government officials, educational leaders, NGOs, business leaders, etc. join forces to address major problems (environment, crime, drug use, etc). Proposals should provide practical, hands-on training on how NGOs influence political processes, collaborate with other organizations to achieve common goals, and develop collaborative relationships with government bodies for community action. Programs should consist of a two-way exchange that may include shadowing opportunities, internships, interactive workshops, and case studies. Ideally, participants will be local leaders who will share ideas, successes, and challenges from their communities. Preference will be given to projects that do not exceed $150,000.

Public Health Awareness

Single Country Projects for Armenia

Armenia's difficult transition to a market economy has weakened the government's ability to raise awareness of serious public health issues, such as tuberculosis, HIV/AIDS, alcoholism, and sexually transmitted diseases. The Bureau is seeking projects that are designed to improve public health awareness throughout Armenia. Specifically, the Bureau is interested in training and exchange programs that will improve the capacity of political, community, and other leaders responsible for developing public health policy and disease control and prevention. Proposals should focus on creative, community-based initiatives that will promote greater awareness of health problems. Proposals should provide practical, hands-on training on how to promote disease prevention strategies, overcome social attitudes that limit public discussion of health issues, and manage grassroots mobilization and advocacy. Programs may consist of a two-way exchange that includes shadowing opportunities, internships, interactive workshops, and exposure to appropriate U.S. public health education models. Formal medical education and the provision of healthcare services or medication are outside the purview of this theme and will not be accepted activities for funding.

Preference will be given to projects that do not exceed $150,000.

Training in NGO Law Making

Single Country Projects for Turkmenistan

The Bureau is seeking proposals that provide Turkmen NGO leaders training in drafting a comprehensive, effective NGO law for their country. Applicants should be familiar with USAID's current work with Turkmen legislators on this topic and should clearly demonstrate expertise in the subject area. Projects should offer opportunities for participants to learn how laws are made in the U.S. and how community engagement can lead to the development of new laws. Training should include a visit to the U.S. by Turkmen participants, as well as follow-up workshops in-country. U.S.-based training should focus on law making at the state level with some focus on the federal level. Training should provide participants hands-on exposure to laws governing NGO taxation, licensing and incorporation and should include a combination of case studies, action planning and site visits. Close consultation with the U.S. Embassy's Public Affairs Section in Ashgabat is critical during all project components.

Preference will be given to projects that do not exceed $150,000.

Library Exchanges

Single Country Projects for the Kyrgyz Republic

Libraries serve as resources for scholarship, proving grounds for new technologies, and gateways for community access to information. In the Kyrgyz Republic, where libraries face severe financial limits, greater collaboration and resource sharing could enhance these institutions' capacity to serve their communities. The Bureau is interested in proposals that will nurture cooperative relationships among Kyrgyz library professionals, government officials, and community leaders and assist participants to manage resources cooperatively and engage their communities in library activities. Proposals should include practical, hands-on in-country training for approximately 100 Kyrgyz participants nationwide given that one of the primary goals of this component should be to initiate a nationwide network of library professionals. Projects should match Kyrgyz library professionals with U.S. colleagues and include appropriate U.S. models for library collaboration and professional development. Continuous activities, including mentoring and consultations between partnered libraries, should be conducted throughout the life of the grant. Proposals for this theme may not exceed $170,000.

Central and Eastern Europe

Requests for grant proposals for the following countries will be announced in separate competitions: Albania, Bosnia-Herzegovina, Bulgaria, Croatia, Czech Republic, Estonia, Hungary, Latvia, Lithuania, Macedonia, Poland, Romania, Serbia-Montenegro/Kosovo, Slovak Republic and Slovenia. Proposals involving Central and Eastern Europe WILL NOT be accepted under this competition, and if received, will be technically ineligible.

Western Europe

Proposals involving Western Europe will not be accepted under this competition, and if received, will be technically ineligible.

Budget Guidelines and Cost-Sharing Requirements

Grants awarded to eligible organizations with less than four years of experience in conducting international development or exchange programs will be limited to $60,000. Applicants must submit a comprehensive budget for the entire program. Applicants must provide a summary budget as well as breakdowns reflecting both administrative and program budgets. Applicants may provide separate sub-budgets for each program component, phase, location, or activity to provide clarification. Please refer to the Proposal Submission Instructions (PSI) for complete budget guidelines and formatting instructions.

Since Bureau grant assistance constitutes only a portion of total project funding, proposals should list and provide evidence of other anticipated sources of financial and in-kind support. While there is no minimum requirement, applicants are encouraged to provide cost sharing to the fullest extent possible. State Department Review Panels will consider cost sharing seriously when evaluating all proposals.

The following program costs are eligible for funding consideration:

1. Travel Costs. International and domestic airfares (per the Fly America Act), transit costs, ground transportation costs, and visas for U.S. participants (J-1 visas for Bureau-supported participants from Eurasia to travel to the U.S. are issued at no charge).

2. Per Diem. For U.S.-based programming, organizations should use the published Federal per diem rates for individual U.S. cities. For activities in Eurasia, the Bureau strongly encourages applicants to budget realistic costs that reflect the local economy. Domestic per diem rates may be accessed at: http://www.policyworks.gov/ and foreign per diem rates can be accessed at: http://www.state.gov/www/perdiems/index.html.

3. Interpreters. Local interpreters with adequate skills and experience may be used for program activities. The Bureau strongly encourages applicants to use local interpreters, if possible. Salary costs for local interpreters must be included in the budget. Costs associated with using their services may not exceed rates for U.S. Department of State interpreters. Typically, one interpreter is provided for every four visitors who require interpreting, with a minimum of two interpreters. Bureau grants do not pay for foreign interpreters to accompany delegations from their home country. U.S. Department of State Interpreters may be used for highly technical programs with the approval of the Office of Citizen Exchanges. Proposal budgets should contain a flat $170/day per diem for each U.S. Department of State interpreter, as well as home-program-home air transportation of $400 per interpreter, reimbursements for taxi fares, plus any other transportation expenses during the program. Salary expenses are covered centrally and should not be part of an applicant's proposed budget.

4. Book and cultural allowance. Foreign participants are entitled to a one-time cultural allowance of $150 per person, plus a book allowance of $50. Interpreters should be reimbursed up to $150 for expenses when they escort participants to cultural events. U.S. program staff, trainers or participants are not eligible to receive these benefits.

5. Consultants. Consultants may be used to provide specialized expertise or to make presentations. Daily honoraria cannot exceed $250 per day. Subcontracting organizations may also be used, in which case the written agreement between the prospective grantee and subcontractor should be included in the proposal. Subcontracts should be itemized in the budget.

6. Room rental. Room rental may not exceed $250 per day.

7. Materials development. Proposals may contain costs to purchase, develop and translate materials for participants. The Bureau strongly discourages the use of automatic translation software for the preparation of training materials or any information distributed to the group of participants or network of organizations. Costs for high-quality translation of materials should be anticipated and included in the budget. Grantee organizations should expect to submit a copy of all program materials to the Bureau.

8. Equipment. Proposals may contain costs to purchase equipment for Eurasia-based programming such as computers, fax machines and copy machines. Costs for furniture are not allowed. Equipment costs must be kept to a minimum.

9. Working meal. Only one working meal may be provided during the program. Per capita costs may not exceed $5-8 for a lunch and $14-20 for a dinner, excluding room rental. The number of invited guests may not exceed participants by more than a factor of two-to-one. Interpreters must be included as participants.

10. Return travel allowance. A return travel allowance of $70 for each foreign participant may be included in the budget. The allowance may be used for incidental expenses incurred during international travel.

11. Health Insurance. Foreign participants will be covered under the terms of a Bureau-sponsored health insurance policy. The premium is paid by the Bureau directly to the insurance company. Applicants are permitted to include costs for travel insurance for U.S. participants in the budget.

12. Wire transfer fees. When necessary, applicants may include costs to transfer funds to partner organizations overseas.

13. Administrative Costs. Costs necessary for the effective administration of the program may include salaries for grantee organization employees, benefits, and other direct and indirect costs per detailed instructions in the Application Package. While there is no rigid ratio of administrative to program costs, priority will be given to proposals whose administrative costs are less than twenty-five (25) per cent of the total requested from the Bureau. Proposals should show strong administrative cost-sharing contributions from the applicant, the in-country partner and other sources.

Announcement Title and Number: All correspondence with the Bureau concerning this RFGP should reference the above title and number ECA/PE/C/EUR-03-22.

Deadline for Proposals

All proposal copies must be received at the Bureau of Educational and Cultural Affairs by 5 p.m. Washington, D.C. time on January 10, 2003. Faxed documents will not be accepted at any time. Documents postmarked the due date but received on a later date will not be accepted. Each applicant must ensure that the proposals are received by the above deadline.

Applicants must follow all instructions in the RFGP and the Proposal Submission Instructions. Please remember that proposals must be double-spaced. The original and ten (10) unbound copies (secured with a binder clip) of the proposal should be sent to: U.S. Department of State, SA-44, Bureau of Educational and Cultural Affairs, Ref.: ECA/PE/C/EUR-03-22, Program Management, ECA/EX/PM, Room 534, 301 4th Street, SW, Washington, DC 20547.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106—113 requires that the governments of the countries described above do not have inappropriate influence in the selection process. Proposals should reflect advancement of these goals in their program contents, to the full extent deemed feasible.

Review Process

The Bureau will acknowledge receipt of all proposals and will review them for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance award grants resides with the Bureau's Grants Officer.

Review Criteria

Technically eligible applications will be competitively reviewed according to the criteria stated below. These criteria are not rank ordered and all carry equal weight in the proposal evaluation:

1. Program Planning and Ability to Achieve Program Objectives: Program objectives should be stated clearly and should reflect the applicant's expertise in the subject area and region. Objectives should respond to the priority topics in this announcement and should relate to the current conditions in the target countries. A detailed agenda and relevant work plan should explain how objectives will be achieved and should include a timetable for completion of major tasks. The substance of workshops, internships, seminars and/or consulting should be described in detail. Sample training schedules should be outlined. Responsibilities of in-country partners should be clearly described.

2. Institutional Capacity: The proposal should include (1) the U.S. institution's mission and date of establishment (2) detailed information about the in-country partner institution's capacity and the history of the U.S. and in-country partnership (3) an outline of prior awards—U.S. government and private support received for the target theme/region (4) descriptions of experienced staff members who will implement the program. Proposed personnel and institutional resources should be adequate and appropriate to achieve the program's goals. The proposal should reflect the institution's expertise in the subject area and knowledge of the conditions in the target country. Proposals should demonstrate an institutional record of successful exchange programs, including responsible fiscal management and full compliance with all reporting requirements for past Bureau grants as determined by Bureau Grant Staff. The Bureau will consider the past performance of prior recipients and the demonstrated potential of new applicants.

3. Cost Effectiveness and Cost Sharing: Overhead and administrative costs for the proposal, including salaries, honoraria and subcontracts for services, should be kept to a minimum. Priority will be given to proposals whose administrative costs are less than twenty-five (25) per cent of the total funds requested from the Bureau. Applicants are encouraged to cost share a portion of overhead and administrative expenses. Cost-sharing, including contributions from the applicant, the in-country partner, and other sources should be included in the budget request.

4. Support of Diversity: Proposals should demonstrate substantive support of the Bureau's policy on diversity. Achievable and relevant features should be cited in both program administration (selection of participants, program venues and program evaluation) and program content (orientation and wrap-up sessions, program meetings, resource materials and follow-up activities). Applicants should refer to the Bureau's Diversity, Freedom and Democracy Guidelines in the Proposal Submission Instructions (PSI).

5. Follow-on Activities: Proposals should provide a plan for continued follow-on activity (without Bureau financial support) ensuring that Bureau supported programs are not isolated events.

6. Evaluation: Proposals should include a detailed plan to monitor and evaluate the program. A draft survey questionnaire plus a description of a methodology to use to link outcomes to original project objectives should be included. Successful applicants will be expected to submit intermediate reports after each project component concludes or on a quarterly basis, whichever is less frequent.

Authority

Overall grant making authority for this program is contained in the Mutual Educational and Cultural Exchange Act of 1961, Public Law 87-256, as amended, also known as the Fulbright-Hays Act. The purpose of the Act is “to enable the Government of the United States to increase mutual understanding between the people of the United States and the people of other countries* * *; to strengthen the ties which unite us with other nations by demonstrating the educational and cultural interests, developments, and achievements of the people of the United States and other nations* * * and thus to assist in the development of friendly, sympathetic and peaceful relations between the United States and the other countries of the world.” The funding authorities for this program are provided through the Fulbright-Hays Act and the FREEDOM Support Act (FSA).

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: October 24, 2002.
Patricia S. Harrison,
Assistant Secretary for Educational and Cultural Affairs, Department of State.

[FR Doc. 02-27712 Filed 10-30-02; 8:45 am]

BILLING CODE 4710-05-U